DEPARTMENT OF HEALTH AND HUMAN SERVICES

Agency for Healthcare Research and Quality

Notice of Meeting

In accordance with section 10(d) of the Federal Advisory Committee Act (5 U.S.C., Appendix 2), announcement is made of this Special Emphasis Panel meeting.

A Special Emphasis Panel (SEP) is a committee of experts selected to conduct scientific reviews of applications related to their areas of expertise. The committee members are drawn from a list of experts and designated to serve for particular individual meetings rather than for extended fixed terms of services.

Substantial segments of this upcoming SEP meeting listed below will be closed to the public in accordance with the Federal Advisory Committee Act, section 10(d) of 5 U.S.C., Appendix 2 and 5 U.S.C., 552b(c)(6). Grant applications are to be reviewed and discussed at this meeting. These discussions are likely to include personal information concerning individuals associated with the applications. This information is exempt from mandatory disclosure under the above-cited statutes.

1. Name of SEP: Health Research Dissemination & Implementation.

Date: October 23, 2000 (Open from 8 a.m. to 8:15 a.m. and closed for the remainder of the meeting).

Place: 6010 Building, 4th Floor, Conference Room D, Rockville, Maryland 20852.

Contact Person: Anyone wishing to obtain a roster of members or minutes of this meeting should contact Ms. Jenny Griffith, Committee Management Officer, Office of Research Review, Education and Policy, AHRQ, 2101 East Jefferson Street, Suite 400, Rockville, Maryland 20852, Telephone (301) 594-1847.

Agenda items for this meeting are subject to change as priorities dictate.

Dated: October 2, 2000.
John M. Eisenberg,
Director.

[FR Doc. 00-25877 Filed 10-6-00; 8:45 am]

BILLING CODE 4160-90-M